DEPARTMENT OF ENERGY

Federal Energy Regulatory Commission

Combined Notice of Filings #1

July 30, 2010.

Take notice that the Commission received the following electric rate filings:

Docket Numbers: ER10-1727-000.

Applicants: RRI Energy Florida, LLC.

Description: RRI Energy Florida, LLC submits tariff filing per 35.12: Baseline Filing to be effective 8/1/2010.

Filed Date: 07/07/2010.

Accession Number: 20100707-5077.

Comment Date: 5 p.m. Eastern Time on Friday, August 20, 2010.

Docket Numbers: ER10-1894-002.

Applicants: Wisconsin Public Service Corporation.

Description: Wisconsin Public Service Corporation submits tariff filing per 35: Compliance Filing for WPSR OATT to be effective 7/30/2010.

Filed Date: 07/30/2010.

Accession Number: 20100730-5037.

Comment Date: 5 p.m. Eastern Time on Friday, August 20, 2010.

Docket Numbers: ER10-1901-002.

Applicants: Upper Peninsula Power Company.

Description: Upper Peninsula Power Company submits tariff filing per 35: Compliance Filing for WPSR OATT to be effective 7/30/2010.

Filed Date: 07/30/2010.

Accession Number: 20100730-5039.

Comment Date: 5 p.m. Eastern Time on Friday, August 20, 2010.

Docket Numbers: ER10-1954-000.

Applicants: American Electric Power Service Corporation.

Description: AEP Texas Central Company et al. submits fully executed amended transmission interconnection agreements which are being filed as service agreement under the Open Access Transmission Service Tariff of the AEPS.

Filed Date: 07/23/2010.

Accession Number: 20100726-0204.

Comment Date: 5 p.m. Eastern Time on Friday, August 13, 2010.

Docket Numbers: ER10-1977-001.

Applicants: New York Independent System Operator, Inc.

Description: New York Independent System Operator submits tariff filing per 35.17(b): Errata Filing—IBRT—7/30/10 to be effective 9/30/2010.

Filed Date: 07/30/2010.

Accession Number: 20100730-5067.

Comment Date: 5 p.m. Eastern Time on Friday, August 20, 2010.

Docket Numbers: ER10-2035-000.

Applicants: Kansas City Power & Light Company.

Description: Kansas City Power & Light Company submits First Revised Rate Schedule FERC No. 129.

Filed Date: 07/29/2010.

Accession Number: 20100729-0209.

Comment Date: 5 p.m. Eastern Time on Thursday, August 19, 2010.

Docket Numbers: ER10-2036-000.

Applicants: Calpine Vineland Solar, LLC.

Description: Calpine Vineland Solar, LLC submits tariff filing per 35.12: Market-Based Rate Tariff in Compliance with Order No. 714 to be effective 7/29/2010.

Filed Date: 07/29/2010.

Accession Number: 20100729-5088.

Comment Date: 5 p.m. Eastern Time on Thursday, August 19, 2010.

Docket Numbers: ER10-2037-000.

Applicants: Calpine Philadelphia Inc.

Description: Calpine Philadelphia Inc. submits tariff filing per 35.12: Market-Based Rate Tariff in Compliance with Order No. 714 to be effective 7/29/2010.

Filed Date: 07/29/2010.

Accession Number: 20100729-5089.

Comment Date: 5 p.m. Eastern Time on Thursday, August 19, 2010.

Docket Numbers: ER10-2038-000.

Applicants: Entergy Services, Inc.

Description: Entergy Services, Inc submits Attachment A letter requesting termination of the executed interconnection and operating agreement and generator imbalance agreement.

Filed Date: 07/29/2010.

Accession Number: 20100729-0208.

Comment Date: 5 p.m. Eastern Time on Thursday, August 19, 2010.

Docket Numbers: ER10-2039-000.

Applicants: Calpine Newark, LLC.

Description: Calpine Newark, LLC submits tariff filing per 35.12: Market-Based Rate Tariff in Compliance with Order No. 714 to be effective 7/29/2010.

Filed Date: 07/29/2010.

Accession Number: 20100729-5090.

Comment Date: 5 p.m. Eastern Time on Thursday, August 19, 2010.

Docket Numbers: ER10-2040-000.

Applicants: Calpine New Jersey Generation, LLC.

Description: Calpine New Jersey Generation, LLC submits tariff filing per 35.12: Market-Based Rate Tariff in Compliance with Order No. 714 to be effective 7/29/2010.

Filed Date: 07/29/2010.

Accession Number: 20100729-5091.

Comment Date: 5 p.m. Eastern Time on Thursday, August 19, 2010.

Docket Numbers: ER10-2041-000.

Applicants: Calpine Mid Merit, LLC.

Description: Calpine Mid Merit, LLC submits tariff filing per 35.12: Market-Based Rate Tariff in Compliance with Order No. 714 to be effective 7/29/2010.

Filed Date: 07/29/2010.

Accession Number: 20100729-5092.

Comment Date: 5 p.m. Eastern Time on Thursday, August 19, 2010.

Docket Numbers: ER10-2042-000.

Applicants: Calpine Energy Services, L.P.

Description: Calpine Energy Services, L.P. submits tariff filing per 35.12: Market-Based Rate Tariff in Compliance with Order No. 714 to be effective 7/29/2010.

Filed Date: 07/29/2010.

Accession Number: 20100729-5093.

Comment Date: 5 p.m. Eastern Time on Thursday, August 19, 2010.

Docket Numbers: ER10-2043-000.

Applicants: Calpine Mid-Atlantic Generation, LLC.

Description: Calpine Mid-Atlantic Generation, LLC submits tariff filing per 35.12: Market-Based Rate Tariff in Compliance with Order No. 714 to be effective 7/29/2010.

Filed Date: 07/29/2010.

Accession Number: 20100729-5098.

Comment Date: 5 p.m. Eastern Time on Thursday, August 19, 2010.

Docket Numbers: ER10-2044-000.

Applicants: Zion Energy LLC.

Description: Zion Energy LLC submits tariff filing per 35.12: Market-Based Rate Tariff in Compliance with Order No. 714 to be effective 7/29/2010.

Filed Date: 07/29/2010.

Accession Number: 20100729-5100.

Comment Date: 5 p.m. Eastern Time on Thursday, August 19, 2010.

Docket Numbers: ER10-2045-000.

Applicants: New York Independent System Operator, Inc.

Description: New York Independent System Operator submits tariff filing per 35.13(a)(2)(iii): EDRP for STR—Allen—7/29/10 to be effective 9/30/2010.

Filed Date: 07/29/2010.

Accession Number: 20100729-5102.

Comment Date: 5 p.m. Eastern Time on Thursday, August 19, 2010.

Docket Numbers: ER10-2046-000.

Applicants: Calpine Bethlehem, LLC.

Description: Calpine Bethlehem, LLC et al. submits Notice of Succession notifying the Commission of a name change follow the recent consummation etc.

Filed Date: 07/29/2010.

Accession Number: 20100730-0202.

Comment Date: 5 p.m. Eastern Time on Thursday, August 19, 2010.

Docket Numbers: ER10-2047-000.

Applicants: Calpine Mid-Atlantic Generation, LLC.

Description: Calpine Bethlehem, LLC et al. submits Notice of Succession notifying the Commission of a name change follow the recent consummation etc.

Filed Date: 07/29/2010.

Accession Number: 20100730-0202.

Comment Date: 5 p.m. Eastern Time on Thursday, August 19, 2010.

Docket Numbers: ER10-2048-000.

Applicants: Calpine Mid Merit, LLC.

Description: Calpine Bethlehem, LLC et al. submits Notice of Succession notifying the Commission of a name change follow the recent consummation etc.

Filed Date: 07/29/2010.

Accession Number: 20100730-0202.

Comment Date: 5 p.m. Eastern Time on Thursday, August 19, 2010.

Docket Numbers: ER10-2049-000.

Applicants: Calpine New Jersey Generation, LLC.

Description: Calpine Bethlehem, LLC et al. submits Notice of Succession notifying the Commission of a name change follow the recent consummation etc.

Filed Date: 07/29/2010.

Accession Number: 20100730-0202.

Comment Date: 5 p.m. Eastern Time on Thursday, August 19, 2010.

Docket Numbers: ER10-2050-000.

Applicants: Calpine Vineland Solar, LLC.

Description: Calpine Bethlehem, LLC et al. submits Notice of Succession notifying the Commission of a name change follow the recent consummation etc.

Filed Date: 07/29/2010.

Accession Number: 20100730-0202.

Comment Date: 5 p.m. Eastern Time on Thursday, August 19, 2010.

Docket Numbers: ER10-2051-000.

Applicants: Calpine Bethlehem, LLC.

Description: Calpine Bethlehem, LLC submits tariff filing per 35.12: Market-Based Rate Tariff in Compliance with Order No. 714 to be effective 7/29/2010.

Filed Date: 07/29/2010.

Accession Number: 20100729-5132.

Comment Date: 5 p.m. Eastern Time on Thursday, August 19, 2010.

Docket Numbers: ER10-2052-000.

Applicants: Midwest Independent Transmission System Operator, Inc.

Description: Midwest Independent Transmission System Operator, Inc. submits tariff filing per 35.12: G604 FCA Filing to be effective 12/31/9998.

Filed Date: 07/29/2010.

Accession Number: 20100729-5138.

Comment Date: 5 p.m. Eastern Time on Thursday, August 19, 2010.

Docket Numbers: ER10-2053-000.

Applicants: Southern California Edison Company.

Description: Southern California Edison Company submits tariff filing per 35: TOT Appendix 8 CWIP Settlement 072910 to be effective 6/1/2010.

Filed Date: 07/29/2010.

Accession Number: 20100729-5144.

Comment Date: 5 p.m. Eastern Time on Thursday, August 19, 2010.

Docket Numbers: ER10-2054-000.

Applicants: Pacific Gas and Electric Company.

Description: Pacific Gas and Electric Company submits tariff filing per 35.13(a)(2)(iii): Modifications to CAISO Interim Black Start Agreement to be effective 9/27/2010.

Filed Date: 07/29/2010.

Accession Number: 20100729-5145.

Comment Date: 5 p.m. Eastern Time on Thursday, August 19, 2010.

Docket Numbers: ER10-2055-000.

Applicants: Pacific Gas and Electric Company.

Description: Pacific Gas and Electric Company submits tariff filing per 35.13(a)(2)(iii): Modifications to CAISO Interim Dual Fuel Agreement to be effective 9/27/2010.

Filed Date: 07/29/2010.

Accession Number: 20100729-5147.

Comment Date: 5 p.m. Eastern Time on Thursday, August 19, 2010.

Docket Numbers: ER10-2056-000.

Applicants: California Independent System Operator Corporation.

Description: California Independent System Operator Corporation submits tariff filing per 35.13(a)(2)(iii): 2010-07-29 CAISO MSG Transition Costs Amendment to be effective 10/1/2010.

Filed Date: 07/29/2010.

Accession Number: 20100729-5152.

Comment Date: 5 p.m. Eastern Time on Thursday, August 19, 2010.

Docket Numbers: ER10-2056-000.

Applicants: California Independent System Operator Corporation.

Description: California Independent System Operator Corporation submits tariff filing per 35.13(a)(2)(iii): 2010-07-29 CAISO MSG Transition Costs Amendment to be effective 10/1/2010.

Filed Date: 07/29/2010.

Accession Number: 20100729-5153.

Comment Date: 5 p.m. Eastern Time on Thursday, August 19, 2010.

Docket Numbers: ER10-2057-000.

Applicants: American Electric Power Service Corporation.

Description: AEP Texas North Company submits unexecuted restated and amended transmission interconnection agreements etc.

Filed Date: 07/29/2010.

Accession Number: 20100730-0203.

Comment Date: 5 p.m. Eastern Time on Thursday, August 19, 2010.

Docket Numbers: ER10-2058-000.

Applicants: Southern Company Services, Inc.

Description: Southern Companies submits network integration transmission service agreement under the Open Access Transmission Tariff etc.

Filed Date: 07/29/2010.

Accession Number: 20100730-0201.

Comment Date: 5 p.m. Eastern Time on Thursday, August 19, 2010.

Docket Numbers: ER10-2059-000.

Applicants: Carolina Power & Light Company.

Description: Carolina Power & Light Company submits tariff filing per 35.13(a)(2)(iii): Service Agreement No. 321 under Carolina Power and Light OATT to be effective 8/1/2010.

Filed Date: 07/30/2010.

Accession Number: 20100730-5028.

Comment Date: 5 p.m. Eastern Time on Friday, August 20, 2010.

Docket Numbers: ER10-2060-000.

Applicants: Consolidated Edison Company of New York, Inc.

Description: Consolidated Edison Company of New York, Inc. submits tariff filing per 35.12: Baseline Filing of Con Edison OATT2 to be effective 7/30/2010.

Filed Date: 07/30/2010.

Accession Number: 20100730-5053.

Comment Date: 5 p.m. Eastern Time on Friday, August 20, 2010.

Docket Numbers: ER10-2061-000.

Applicants: Tampa Electric Company.

Description: Tampa Electric Company submits tariff filing per 35.13(a)(1): Wholesale Requirements Rate Case to be effective 10/1/2010.

Filed Date: 07/30/2010.

Accession Number: 20100730-5097.

Comment Date: 5 p.m. Eastern Time on Friday, August 20, 2010.

Docket Numbers: ER10-2062-000.

Applicants: New York Independent System Operator, Inc.

Description: New York Independent System Operator submits tariff filing per 35.13(a)(2)(iii): NYISO 205 Filing—RLS Schnell 7/30/10 to be effective 9/30/2010.

Filed Date: 07/30/2010.

Accession Number: 20100730-5105.

Comment Date: 5 p.m. Eastern Time on Friday, August 20, 2010.

Docket Numbers: ER10-2063-000.

Applicants: Otter Tail Power Company.

Description: Otter Tail Power Company submits tariff filing per 35.12: Baseline Electronic Tariff Filing to be effective 7/30/2010.

Filed Date: 07/30/2010.

Accession Number: 20100730-5110.

Comment Date: 5 p.m. Eastern Time on Friday, August 20, 2010.

Take notice that the Commission received the following electric securities filings:

Docket Numbers: ES10-52-000.

Applicants: Southwestern Electric Power Company.

Description: Application of Southwestern Electric Power Company requesting authorization to issue securities Under Section 204 of the Federal Power Act.

Filed Date: 07/29/2010.

Accession Number: 20100729-5169.

Comment Date: 5 p.m. Eastern Time on Thursday, August 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2010-19882 Filed 8-11-10; 8:45 am]

BILLING CODE 6717-01-P